NUCLEAR REGULATORY COMMISSION

[Docket No. 50-285; NRC-2022-0127]

Omaha Public Power District, Fort Calhoun Station, Unit 1; License Termination Plan

AGENCY: Nuclear Regulatory Commission.

ACTION: Public meeting and request for comment.

SUMMARY: On August 3, 2021, as supplemented on January 13, 2022, the U.S. Nuclear Regulatory Commission (NRC) received from the Omaha Public Power District (OPPD, the licensee) a license amendment request to add a license condition to include the requirements of a License Termination Plan (LTP) for the Fort Calhoun Station, Unit 1 (FCS). The LTP provides details about the known radiological information for the site, the planned demolition and decommissioning tasks to be completed, and the final radiological surveys and data that must be obtained for termination of the NRC's license for FCS. The NRC is requesting public comments on FCS's LTP and will hold a public meeting to discuss the LTP.

DATES: The public meeting will be held on Wednesday, July 13, 2022, from 6:00 p.m. to 7:30 p.m., Central Time (CT), at the Blair Public Library & Technology Center, 2233 Civic Dr., Blair, NE. The public meeting is also available through an online webinar. Submit comments by September 6, 2022. Comments received after this date will be considered if it is practical to do so, but the NRC is able to ensure consideration only for comments received on or before this date. See Section IV “Request for Comment and Public Meeting” of this document for additional information.

ADDRESSES: You may submit comments by any of the following methods; however, the NRC encourages electronic comment submission through the Federal rulemaking website:

• Federal rulemaking Website: Go to https://www.regulations.gov and search for Docket ID NRC-2022-0127. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jack D. Parrott, Office of Nuclear Material Safety and Safeguards, U.S. Nuclear Regulatory Commission, Washington, DC 20555-0001, telephone: 301-415-6634, email: Jack.Parrott@nrc.gov.

SUPPLEMENTARY INFORMATION:

I. Obtaining Information and Submitting Comments

A. Obtaining Information

Please refer to Docket ID NRC-2022-0127 when contacting the NRC about the availability of information for this action. You may obtain publicly available information related to this action by any of the following methods:

• Federal Rulemaking Website: Go to https://www.regulations.gov and search for Docket ID NRC-2022-0127.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2022-0127 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Omaha Public Power District (OPPD or licensee) is the holder of Facility Operating License No. DPR-40. The license provides, among other things, that the facility is subject to all rules, regulations, and orders of the NRC now or hereafter in effect. The facility is a pressurized-water reactor located in Washington County, NE.

On June 24, 2016, OPPD formally notified the NRC of its intent to permanently cease operations at FCS. By letter dated November 13, 2016, the licensee notified the NRC that it had permanently ceased power operations at FCS on October 14, 2016, and certified that as of November 13, 2016, all fuel had been permanently removed from the FCS reactor vessel and placed in the FCS spent fuel pool.

The licensee submitted its Post-Shutdown Decommissioning Activities Report (PSDAR) on March 20, 2017. The PSDAR described the licensee's proposed decommissioning activities and schedule. At that time, the licensee selected to place the facility in long-term storage (i.e., the “SAFSTOR” decommissioning option) as described in the PSDAR. SAFSTOR is a method of decommissioning in which a nuclear facility is placed and maintained in a condition that allows the facility to be safely stored and subsequently decontaminated (deferred decontamination) to levels that permit release for unrestricted use. The licensee planned to continue in SAFSTOR until 2058.

By letter dated December 16, 2019, OPPD submitted an updated PSDAR to reflect that the decommissioning approach for the FCS was changing from SAFSTOR to the immediate decontamination and dismantlement of the facility (i.e., the DECON decommissioning option). DECON is a method of decommissioning in which structures, systems, and components that contain radioactive contamination are removed from the site and safely disposed at a commercially operated low-level waste disposal facility or decontaminated to a level that permits the site to be released for unrestricted use as soon as possible after removal of the spent fuel from the spent fuel pool. On May 13, 2020, FCS removed the last canister of fuel and all special nuclear material from the spent fuel pool.

On August 3, 2021, FCS submitted their LTP to the NRC as supplemented by letter dated January 13, 2022. Paragraph 50.82(a)(9) of title 10 of the Code of Federal Regulations (10 CFR), “Termination of license,” specifies that an application for license termination must be accompanied or preceded by a LTP, which is subject to NRC review and approval. The LTP addresses site characterization to ensure that the scope of final status surveys (FSS) of the site cover all areas where contamination existed, remains, or has the potential to exist or remain, identification of remaining dismantlement activities, plans for site remediation, a description of the FSS plans to confirm that FCS will meet the release criteria in 10 CFR part 20, subpart E, “Radiological Criteria for License Termination,” dose-modeling scenarios that ensure compliance with the radiological criteria for license termination, an estimate of the remaining site-specific decommissioning costs, a supplement to the FCS Defueled Safety Analysis Report and an updated assessment of the environmental effects of decommissioning FCS.

According to 10 CFR 50.82(a)(9)(iii), after the licensee submits an LTP the NRC must hold a public meeting near the site. The purpose of the meeting is for the NRC staff to discuss the NRC's review of the LTP and to request public comments on the LTP.

III. Availability of Documents

The documents identified in the following table are available to interested persons through one or more of the following methods, as indicated.

Document | ADAMS accession No.
OPPD notification of its intent to permanently cease operations at Fort Calhoun Station, dated June 24, 2016 | ML16176A213.
OPPD certification that all fuel had been permanently removed from the FCS reactor vessel and placed in the FCS spent fuel pool, dated November 13, 2016 | ML16319A254.
OPPD submittal of PSDAR for FCS, dated March 30, 2017 | ML17089A759.
OPPD submittal of an updated PSDAR for FCS to reflect the change from SAFSTOR to DECON, dated December 16, 2019 | ML19351E355.
OPPD notification of the removal of the last canister of fuel and all special nuclear material from the spent fuel pool, dated May 18, 2020 | ML20139A138.
OPPD submittal of their LTP to the NRC | ML21271A178 (Package).
OPPD supplement to the LTP | ML22034A602 (Package).

The NRC may post materials related to this document, including public comments, on the Federal rulemaking website at https://www.regulations.gov under Docket ID NRC-2022-0127. The Federal rulemaking website allows you to receive alerts when changes or additions occur in a docket folder. To subscribe: (1) Navigate to the docket folder (NRC-2022-0127); (2) click the “Sign up for Email Alerts” link; and (3) enter your email address and select how frequently you would like to receive emails (daily, weekly, or monthly).

IV. Request for Comment and Public Meeting

The NRC is requesting public comments on the FCS LTP. The NRC will conduct a public meeting to discuss the LTP and receive comments on Wednesday, July 13, 2022, from 6:00 p.m. to 7:30 p.m., CT, at the Blair Public Library & Technology Center, 2233 Civic Dr., Blair, NE. Please contact Mr. Jack Parrott no later than July 11, 2022, if accommodations or special equipment is needed to attend or to provide comments, so that the NRC staff can determine whether the request can be accommodated. For additional information regarding the meeting, see the NRC's Public Meeting Schedule website at https://meetings.nrc.gov/pmns/mtg. The agenda will be posted no later than 10 days prior to the meeting.

Dated: July 4, 2022.
For the Nuclear Regulatory Commission.
Shaun M. Anderson,
Chief, Reactor Decommissioning Branch, Division of Decommissioning, Uranium Recovery, and Waste Programs, Office of Nuclear Material Safety and Safeguards.

[FR Doc. 2022-14552 Filed 7-7-22; 8:45 am]

BILLING CODE 7590-01-P